DEPARTMENT OF AGRICULTURE

Forest Service

Interface Recreation Trails Project

AGENCY: Forest Service, USDA.

ACTION: Notice of intent.

SUMMARY: The Forest Service intends to prepare an environmental impact statement to disclose the environmental consequences of the proposed Interface Recreation Trails Project on the Calaveras Ranger District of the Stanislaus National Forest. The agency proposes to design a system of recreation routes, determine the uses that can occur on each route in the system, and develop measures to protect natural resources on approximately 8,600 acres of National Forest System lands. Hiking, horseback riding, mountain bike riding, off-highway vehicle riding, and street legal vehicle riding are the uses being considered in this analysis. The purpose of the proposal is to provide a variety of recreation opportunities for route users while protecting the natural resources, minimizing conflicts between recreationists and others, and promoting public safety.

DATES: Comments concerning the scope of the analysis should be received in writing on or before January 8, 2001.

ADDRESSES: Send written comments to Calaveras Ranger District, Stanislaus National Forest, USDA Forest Service, P.O. Box 500, Hathaway Pines, California, 95233. Comments may be sent by electronic mail (e-mail) to mailroom_r5_stanislaus@fs.fed.us. Please reference the Interface Recreation Trails project on the subject line and include your name and mailing address with your comments.

FOR FURTHER INFORMATION CONTACT: Greg Casselberry, Planning Team Leader, telephone: (209) 795-1381, extension 321.

SUPPLEMENTARY INFORMATION: The Forest Service is preparing an environmental impact statement (EIS) to disclose the environmental consequences of a proposed interface recreation trails project on the Calaveras Ranger District of the Stanislaus National Forest. The proposed project is located in Calaveras County, California, within the Calaveras Ranger District of the Stanislaus National Forest in portions of sections 1, 2, 11, 12, 13, 14, 23, 24, 26, T.4N., R.14E., a portion of section 18, T.4N., R.15E., portions of sections 13, 24, 25, 26, 35, 36, T.5N., R.14E., and portions of sections 7, 8, 17, 18, 19, 20, 29, 30, T.5N., R.15E., MDB&M. It is adjacent to the western boundary of the communities of Hathaway Pines, Avery, Arnold, and White Pines.

Under the current proposal being analyzed, non-motorized and motorized recreation use (multiple use) would continue to be allowed on 19.5 miles of existing trails and roads; 16.6 miles of existing trails and roads would be available for non-motorized recreation use only; 17.4 miles of existing roads would be routes for street legal (highway licensed) vehicles only. Also, there would be 10.0 miles of multiple use routes and 10.7 miles of non-motorized trails constructed and 26.5 miles of existing trails and roads closed. Five gates would be closed to public motorized traffic and one mile of Forest Road 5N95Y would be chipsealed. Parking areas would be established on Forest Road 5N52 and County Road 323 to access the trail system. A low-water crossing and approach would be constructed at Slick Rock Crossing. Street legal vehicle and non-motorized uses only zones that are a minimum of a one-quarter mile wide would be established adjacent to subdivisions. A permanent public easement for the segment of the trail that crosses private land located in the SW1/4 of the NE1/4 of section 30, T.5N., R.15E. would be sought from the landowner. Written orders would be issued to enforce trail use restrictions, trail closures, zone restrictions, and gate closures.

Decision To Be Made

The decision to be made is whether to implement the proposed action as described above, to meet the purpose and need for action through some other combination of activities, or to take no action at this time.

Responsible Official

Robert W. Griffith, District Ranger, Calaveras Ranger District, P.O. Box 500, Hathaway Pines, California, 95233 is the Responsible Official who will decide what actions are to be implemented to provide a variety of recreation opportunities for route users within the project area. He will document his decisions and rationale in a Record of Decision.

Preliminary Issues

Three preliminary issues have been identified: (1) Disturbances by human presence and noise on the trails and roads may adversely impact wildlife species, (2) sounds of motorized vehicles on the trails and roads may have a negative impact on adjacent landowners and the experiences of other forest visitors, and (3) opportunities for recreation may be affected by the trail and road mileage available as well as by the uses allowed on each route.

Alternatives To Be Considered

A range of alternatives to the proposed action will be considered. The alternatives will be designed to provide different ways to address and respond to significant issues and to fulfill the purpose and need for action. A reasonable range of alternatives will be evaluated and reasons given for eliminating some alternatives from detailed study. A “no action” alternative is required, which is that current management practices and the current trail system and uses would continue as they currently exist.

Public Involvement

The Forest Service will be seeking information, comments, and assistance from Federal, State, and local agencies, and other individuals or organizations that may be interested in, or affected by, the proposed action. While public participation in this analysis is welcome at any time, comments received by January 8, 2001, will be especially useful in the preparation of the draft EIS. The scoping process will include identifying potential issues, significant issues to be analyzed in depth, alternatives to the proposed action, and potential environmental effects of the proposal and alternatives.

Estimated Dates for Filing

The draft EIS is expected to be filed with the Environmental Protection Agency and to be available for public review in March 2001. At that time, the Environmental Protection Agency will publish a notice of availability of the draft EIS in the Federal Register. The comment period on the draft EIS will be 45 days from the date the Environmental Protection Agency publishes the notice of availability in the Federal Register. It is very important that those individuals interested in the management of this area participate by providing comment during that time. In the final EIS, tentatively scheduled for May 2001, the Forest Service is required to respond to comments and responses received during the comment period that pertain to the environmental consequences discussed in the draft EIS.

The Reviewers Obligation to Comment

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate prior to the close of the 45-day comment period so that substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Dated: November 16, 2000.
Ben L. Del Villar,
Forest Supervisor.

[FR Doc. 00-29886 Filed 11-21-00; 8:45 am]

BILLING CODE 3410-11-U